DEPARTMENT OF COMMERCE

National Oceanic and Atmospheric Administration

[RTID 0648-XE528]

Gulf of Mexico Fishery Management Council; Public Meeting

AGENCY: National Marine Fisheries Service (NMFS), National Oceanic and Atmospheric Administration (NOAA), Commerce.

ACTION: Notice of meeting open to the public.

SUMMARY: The Gulf of Mexico Fishery Management Council (Council) will hold its second Recreational Initiative Working Group meeting in New Orleans, LA.

DATES: The meeting will convene Wednesday, January 8, 2025, from 9 a.m. to 4:30 p.m. and Thursday, January 9, 2025, from 9 a.m. to 4 p.m., CST.

ADDRESSES: The meeting will take place at the Hyatt Centric New Orleans French Quarter, located at 800 Iberville Street, New Orleans, LA 70112. You may “listen in” by accessing the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION: The purpose of this meeting is to ensure collective understanding of stock status and management measures/history for each of the Recreational Initiative's five focal species:

Review the status of federally managed species in the Gulf of Mexico that are highly sought after by recreational anglers, including recreational sources of directed and bycatch mortality, review and assess recreational management measures, including how management measures have changed over time and assess the performance and efficacy of recreational accountability measures and recommended improvements.

The meeting agenda is as follows:

Wednesday, January 8, 2025; 9 a.m.-4:30 p.m., CST

The meeting will begin with welcome and recap of Working Group Meeting 1 and review Working Group Meeting 2 purpose and agenda. The committee will give an overview of Public Engagement since Working Group Meeting 1 and Recreational Data in the Gulf of Mexico, review Federal Management Process and its role in Gulf Council Management, Accountability Measures Requirements and Application, and Management Outcomes: Changes in Landings and Discards over time and Management Review.

The Group will then hear a presentation on the management history for red snapper and engage in a breakout session. The meeting will adjourn after the group hears a summary of work completed during breakouts.

Thursday, January 9, 2025; 9 a.m.-4 p.m., CST

The Working Group will begin with review of agenda for Day 2, Management will give an overview of Gag and Red Grouper followed by the workgroup breaking in two breakout sessions for Gag and Red Grouper to engage in facilitated questions and discussion, followed by a Report-Out of each breakout.

Following the lunch, Management will give an overview for Greater Amberjack and Gray Triggerfish. The workgroup will break out in two breakout sessions, Greater Amberjack and Gray Triggerfish, to engage in facilitated questions and discussion, followed by a Report-Out of each breakout. The consultants will give a presentation to put it all together with a synthesis of messages heard during Working Group meetings 1 and 2 and Working Group discussion.

Lastly, Council staff will offer closing remarks and logistics.

—Meeting Adjourns

The full agenda and additional information will be posted on https://gulfcouncil.org/recreational-initiative/. You may register for the webinar to listen-in only by visiting www.gulfcouncil.org and click on the meeting on the calendar.

The timing and order in which agenda items are addressed may change as required to effectively address the issue, and the latest version along with other meeting materials will be posted on the website as they become available.

Special Accommodations

These meetings are physically accessible to people with disabilities. Requests for sign language interpretation or other auxiliary aid or accommodations should be directed to Kathy Pereira, (813) 348-1630, at least 15 days prior to the meeting date.

Authority: 16 U.S.C. 1801 et seq.

Dated: December 16, 2024.
Rey Israel Marquez,
Acting Deputy Director, Office of Sustainable Fisheries, National Marine Fisheries Service.

[FR Doc. 2024-30284 Filed 12-18-24; 8:45 am]

BILLING CODE 3510-22-P